DEPARTMENT OF AGRICULTURE

Food and Nutrition Service

Agency Information Collection Activities: Proposed Collection; Comment Request—National School Lunch Program

AGENCY: Food and Nutrition Service, USDA.

ACTION: Notice.

SUMMARY: In accordance with the Paperwork Reduction Act of 1995, the Food and Nutrition Service requests public comment on the information collection related to the National School Lunch Program, OMB number 0584-0006.

DATES: To be assured of consideration, comments must be received by May 28, 2004.

ADDRESSES: Send comments and requests for copies of this information collection to: Mr. Terry Hallberg, Chief, Program Analysis and Monitoring Branch, Child Nutrition Division, Food and Nutrition Service, U.S. Department of Agriculture, 3101 Park Center Drive, Room 640, Alexandria, Virginia 22302.

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

All comments will be summarized and included in the request for OMB approval, and will become a matter of public record.

FOR FURTHER INFORMATION CONTACT: Contact Mr. Terry Hallberg at (703) 305-2590.

SUPPLEMENTARY INFORMATION: Title: 7 CFR part 210, National School Lunch Program.

OMB Number: 0584-0006.

Expiration Date: May 31, 2004.

Type of Request: Revision of a currently approved collection.

Abstract: The National School Lunch Act of 1946 (NSLA), as amended, authorizes the National School Lunch Program (NSLP). The Department of Agriculture provides States with general and special cash assistance and donations of foods to assist schools in serving nutritious lunches to children each school day. Participating schools must serve lunches that are nutritionally adequate and to the extent practicable ensure that participating children gain a full understanding of the relationship between proper eating and good health.

The Department of Agriculture prescribes the nutritional requirements of the lunches in accordance with Section 9(a) of the NSLA (42 U.S.C. 1758). That provision requires that “Lunches served by schools participating in the school lunch program under this Act shall meet minimum nutritional requirements prescribed by the Secretary on the basis of tested nutritional Research * * *.”

No new reporting and recordkeeping burden are requested under this information collection. However, numbers of the reporting and recordkeeping burdens are reduced due to the number of the State agencies administering the program dropping from 58 to 57, and also the elimination of 7 CFR 210.28(d), 64 FR 50735, 50741 (Sept. 20, 1999), which contained the requirements for the State Food Distribution Advisory Council.

The purpose of this Notice is to allow the public 60 days to comment on all reporting and recordkeeping burdens as indicated under the Estimated Total Annual Burden on Respondents below. The information being requested is required to administer and operate this program in accordance with the NSLA. The Program is administered at the State and school food authority levels and the operations include the submission and approval of applications, execution of agreements, submission of claims, payment of claims, providing monitoring and technical assistance. All of the reporting and recordkeeping requirements associated with the NSLP are currently approved by the Office of Management and Budget and in force.

Estimated Number Respondents: 57 State agencies, 20,144 school food authorities and 97,767 schools, Total: 118,224.

Reporting:

Total Annual Responses: 2,200,706.

Total Annual Burden: 1,126,021.

Average Time per Response: .51 hour.

Recordkeeping:

Total Annual Responses: 30,472,990.

Total Annual Burden: 8,335,490.

Average Time per Response: .27 hour.

Estimated Total Annual Burden:

Reporting burden: 1,126,021.

Recordkeeping burden: 8,335,490.

Total annual burden hours: 9,461,511.

Dated: March 22, 2004.
Roberto Salazar,
Administrator.

[FR Doc. 04-6917 Filed 3-26-04; 8:45 am]

BILLING CODE 3410-30-P